DEPARTMENT OF TRANSPORTATION

Office of the Secretary

Aviation Proceedings, Agreements Filed the Week Ending February 4, 2005

The following Agreements were filed with the Department of Transportation under the provisions of 49 U.S.C. Sections 412 and 414. Answers may be filed within 21 days after the filing of the application.

Docket Number: OST-2005-20315.

Date Filed: February 3, 2005.

Parties: Members of the International Air Transport Association.

Subject: Mail Vote 436—PTC2 EUR 0597, PTC2 EUR-AFR 0217 dated 4 February 2005—Resolution 010k—Special Passenger Amending Resolution from Algeria Intended effective date: 15 February 2005.

Docket Number: OST-2005-20327.

Date Filed: February 4, 2005.

Parties: Members of the International Air Transport Association.

Subject: Memorandum PTC COMP 1211 dated 4 February 2005 Resolution 011a—Mileage Manual Non-TC Member/Non-IATA Carrier Sectors (Amending).

Renee V. Wright,
Acting Program Manager, Alternate Federal Register Liaison.

[FR Doc. 05-3372 Filed 2-18-05; 8:45 am]

BILLING CODE 4910-62-M